DEPARTMENT OF TRANSPORTATION

Federal Aviation Administration

Notice of Release From Federal Grant Assurance Obligations for Tucson International Airport, Tucson, AZ

AGENCY: Federal Aviation Administration, DOT.

ACTION: Notice of request to release airport land.

SUMMARY: The Federal Aviation Administration (FAA) proposes to rule and invites public comment on the application for a release of approximately 2,000 square feet of airport property at Tucson International Airport, Tucson, Arizona, from all conditions contained in the Grant Assurances since the parcel of land is not needed for airport purposes. The property will be sold for its fair market value and the proceeds deposited in the airport account. The reuse of the land for commercial purposes represents a compatible land use that will not interfere with the airport or its operation. The interest of civil aviation continues to be served by the release.

DATES: Comments must be received on or before December 16, 2010.

FOR FURTHER INFORMATION CONTACT: Comments on the request may be mailed or delivered to the FAA at the following address: Tony Garcia, Airports Compliance Program Manager, Federal Aviation Administration, Airports Division, Federal Register Comment, 15000 Aviation Blvd., Lawndale, CA 90261. In addition, one copy of the comment submitted to the FAA must be mailed or delivered to Ms. Jill L. Merrick, Vice President of Planning and Development, Tucson Airport Authority, 7005 South Plumer Avenue, Tucson, AZ 85756.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

Tucson Airport Authority, Tucson, Arizona requested a release from grant assurance obligations for approximately 2,000 square feet of airport land. The property is separated from the airport by a street and located north of the intersection of Valencia Road and Park Avenue. Due to its location, the property cannot be used for aeronautical purposes. The land is presently used for parking by the neighboring commercial property owner. The property line was not correctly stacked causing the parking area to encroach into airport property. If the commercial property corrects the boundary line by downsizing the parking area, the commercial property will not comply with Tucson building code because the parking area will be too small. The Tucson Airport Authority has agreed to sell the small parcel being used for parking in order to make the commercial property owner whole. The release will allow 2,000 square feet to be sold to allow the commercial property to comply with local law. The sale price will be based on its appraised market value and the sale proceeds will be deposited in the airport account. Continued use of the property for parking represents a compatible use that will not interfere with airport operations. Tucson Airport Authority will be justly compensated, thereby serving the interests of civil aviation.

Issued in Hawthorne, California, on November 2, 2010.
Debbie Roth,
Assistant Manager, Airports Division, Western-Pacific Region.

[FR Doc. 2010-28760 Filed 11-15-10; 8:45 am]

BILLING CODE 4910-13-P